GENERAL SERVICES ADMINISTRATION

[OMB Control No. 3090-0303; Docket No. 2019-0001; Sequence No. 7]

Submission to OMB for Review; General Services Administration Acquisition Regulation; Administrative Changes

AGENCY: Office of Acquisition Policy, General Services Administration (GSA).

ACTION: Notice of request for public comments regarding a new OMB information clearance.

SUMMARY: Under the provisions of the Paperwork Reduction Act, the Regulatory Secretariat Division will be submitting to the Office of Management and Budget (OMB) a request to review and approve a new information collection requirement regarding OMB Control No. 3090-0303, Administrative Changes.

DATES: Submit comments on or before: May 9, 2019.

ADDRESSES: Submit comments regarding this burden estimate or any other aspect of this collection of information, including suggestions for reducing this burden to: Office of Information and Regulatory Affairs of OMB, Attention: Desk Officer for GSA, Room 10236, NEOB, Washington, DC 20503.

Additionally submit a copy to GSA by any of the following methods:

• Submit comments via the Federal eRulemaking portal by searching the OMB control number. Select the link “Submit a Comment” that corresponds with “Information Collection 3090-0303, Administrative Changes.” Follow the instructions provided at the “Submit a Comment” screen. Please include your name, company name (if any), and “Information Collection 3090-0303, Administrative Changes” on your attached document.

• Mail: General Services Administration, Regulatory Secretariat Division (MVCB), 1800 F Street NW, Washington, DC 20405. ATTN: Ms. Mandell/IC 3090-0303, Administrative Changes.

Instructions: Please submit comments only and cite Information Collection 3090-0303, Administrative Changes in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Dana Bowman, Procurement Analyst, General Services Acquisition Policy Division, GSA, by phone at 202-357-9652 or by email at dana.bowman@gsa.gov.

SUPPLEMENTARY INFORMATION:

A. Purpose

This information requirement consists of information used by FAS to evaluate vendors' offers, ordering activities when placing orders against the contract, and other FSS vendors to conduct market research when submitting proposals.

A request for public comments published in the Federal Register at 79 FR 54125 on September 10, 2014 as part of a proposed rule under GSAR case 2013-G502.

Three comments were received on the Information Collection (IC). The comments received questioned the impact and methodologies used to calculate burden estimates. In response, GSA provided clarification explaining the impact and the methodologies used to calculate burden estimates. The calculated burden estimates did not change as a result of the comments. Full responses to the inquiries are included in the Final Rule publication.

B. Annual Reporting Burden

The Paperwork Reduction Act (44 U.S.C. chapter 35) does apply because the final rule contains eight (8) clauses and provisions with information collection requirements. However, one of the clauses does not impose additional information collection requirements to the paperwork burden previously approved under existing OMB Control Number. The remaining seven (7) clauses and provisions involve information collection requirements that have not previously been approved by OMB.

The annual total public reporting burden for this collection of information is estimated to be 38,674 total hours ($1,819,998.44), including the time for reviewing instructions, searching existing data sources, gathering and maintaining the data needed, and completing and reviewing the collection of information. Annual reporting burdens include the estimated respondents with one (1) submission per respondent multiplied by preparation hours per response to get the total response burden hours.

The reinstated GSAR clause 552.238-84 Discounts for Prompt Payment requires the offeror to provide the Government a discount for early payment, if applicable.

Respondents: 14,674.

Responses per respondent: 1.

Total annual responses: 14,674.

Preparation hours per response: 1.0 (1 hr.).

Total response burden hours: 14,674.

Cost per hour: $47.06.

Estimated cost burden to the public: $690,558.44.

The new GSAR clause 552.238-87 Delivery Prices requires the offeror to identify the intended geographic area(s)/countries/zones that are to be covered.

Respondents: 8,000.

Responses per respondent: 1.

Total annual responses: 8,000.

Preparation hours per response: .50 (30 minutes).

Total response burden hours: 4,000.

Cost per hour: $47.06.

Estimated cost burden to the public: $188,240.00.

The new GSAR clause 552.238-95 Separate Charge for Performance Oriented Packaging requires the offeror to list any separate charge for preservation, packaging, packing and marking, and labeling of domestic and overseas HAZMAT surface shipments.

Respondents: 8,000.

Responses per respondent: 1.

Total annual responses: 8,000.

Preparation hours per response: .50 (30 minutes).

Total response burden hours: 4,000.

Cost per hour: $47.06.

Estimated cost burden to the public: $188,240.00.

The new GSAR clause 552.238-96 Separate Charge for Delivery within Consignee's Premises requires the offeror to list any separate cost for shipping when the delivery is within the consignee's premises (inclusive of items that are comparable in size and weight).

Respondents: 8,000.

Responses per respondent: 1.

Total annual responses: 8,000.

Preparation hours per response: .50 (30 minutes).

Total response burden hours: 4,000.

Cost per hour: $47.06.

Estimated cost burden to the public: $188,240.00.

The new GSAR clause 552.238-97 Parts and Service requires the offeror to include in the price list, the names and addresses of all supply and service points maintained in the geographic area in which the offeror will perform, whether or not a complete stock of repair parts for items offered is carried at that point, and whether or not mechanical service is available.

Respondents: 8,000.

Responses per respondent: 1.

Total annual responses: 8,000.

Preparation hours per response: .50 (30 minutes).

Total response burden hours: 4,000.

Cost per hour: $47.06.

Estimated cost burden to the public: $188,240.00.

The new GSAR clause 552.238-99 Delivery Prices Overseas requires the offeror to identify the intended geographic area(s)/countries/zones which are to be covered.

Respondents: 8,000.

Responses per respondent: 1.

Total annual responses: 8,000.

Preparation hours per response: .50 (30 minutes).

Total response burden hours: 4,000.

Cost per hour: $47.06.

Estimated cost burden to the public: $188,240.00.

The new GSAR clause 552.238-111 Environmental Protection Agency Registration Requirement requires the offeror to list the manufacturers' and/or distributors' name and EPA Registration Number for each item requiring registration with the EPA.

Respondents: 8,000.

Responses per respondent: 1.

Total annual responses: 8,000.

Preparation hours per response: .50 (30 minutes).

Total response burden hours: 4,000.

Cost per hour: $47.06.

Estimated cost burden to the public: $188,240.00.

C. Public Comments

Public comments are particularly invited on: Whether this collection of information is necessary and whether it will have practical utility; whether our estimate of the public burden of this collection of information is accurate and based on valid assumptions and methodology; and ways to enhance the quality, utility, and clarity of the information to be collected.

Obtaining Copies of Proposals

Requesters may obtain a copy of the information collection documents from the General Services Administration, Regulatory Secretariat Division (MVCB), 1800 F Street NW, Washington, DC 20405, telephone 202-501-4755. Please cite OMB Control No. 3090-0303, Administrative Changes, in all correspondence.

Jeffrey A. Koses,
Senior Procurement Executive, Office of Acquisition Policy, Office of Government-wide Policy.

[FR Doc. 2019-06951 Filed 4-8-19; 8:45 am]

BILLING CODE 6820-61-P